DEPARTMENT OF ENERGY

Federal Energy Regulatory Commission

[Docket No. CP09-51-000 ]

Natural Gas Pipeline Company of America LLC; Notice of Request Under Blanket Authorization

January 29, 2009.

Take notice that on January 22, 2009, Natural Gas Pipeline Company of America LLC (Natural), 3250 Lacey Road, Suite 700, Downers Grove, Illinois 60515, filed in Docket No. CP09-51-000, an application pursuant to sections 157.205, 157.208, 157.211 and 157.212 of the Commission's Regulations under the Natural Gas Act (NGA) as amended, to construct, install, own, operate, and maintain facilities necessary to deliver natural gas to the Southwest Louisiana Lateral (Southwest Loop), which is partially owned by Transcontinental Gas Pipe Line Corporation (Transco), and to Bridgeline Holdings, L.P. (Bridgeline), both located in Johnson Bayou, Cameron Parish, Louisiana, under Natural's blanket certificate issued in Docket No. CP82-402-000,¹ all as more fully set forth in the application which is on file with the Commission and open to the public for inspection.

¹ 20 FERC ¶ 62,415 (1982).

Natural proposes to construct, install, own, operate, and maintain a metering platform, dual metering facilities, taps, and such other appurtenant facilities required to effect the interconnects to deliver up to 200,000 Dth/day of natural gas to the Southwest Loop or to deliver up to 200,000 Dth/day of natural gas to Bridgeline. Natural states that it would cost an estimated $11,900,000 to construct the proposed facilities.

Any questions concerning this application may be directed to Bruce H. Newsome, Vice President, Regulatory Products and Services, Natural Gas Pipeline Company of America LLC, 3250 Lacey Road, 7th Floor, Downers Grove, Illinois 60515-7918, or via telephone at (630) 725-3070, or by e-mail bruce_newsome@kindermorgan.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Kimberly D. Bose,
Secretary.

[FR Doc. E9-2523 Filed 2-5-09; 8:45 am]

BILLING CODE 6717-01-P